DEPARTMENT OF COMMERCE

International Trade Administration

[A-588-857]

Certain Welded Large Diameter Line Pipe From Japan: Notice of Initiation of Changed Circumstances Review of the Antidumping Order, and Notice of Consideration of Revocation of Order (in Part).

AGENCY: Import Administration, International Trade Administration, Department of Commerce.

ACTION: Notice of initiation of changed circumstances antidumping duty review.

SUMMARY: In accordance with 19 CFR 351.216(b), BP America, Inc. (“BP America”), a U.S. importer of the subject merchandise, filed a request for a changed circumstances review of the antidumping order on welded large diameter line pipe (LDLP) from Japan with respect to certain products as described below. American Cast Iron Pipe Co., American Steel Pipe Division; Berg Steel Pipe Corp.; and Stupp Corp., the petitioners in the sales at less than fair value investigation (“the petitioners”), filed a letter with the Department of Commerce (“the Department”) stating that they do not object to the exclusion of these products from the order. In response to the expressed lack of interest in these products from members of the domestic industry, the Department of Commerce (“the Department”) is initiating a changed circumstances review with respect to this request for certain welded large diameter line pipe as described below.

EFFECTIVE DATE: June 10, 2002.

FOR FURTHER INFORMATION CONTACT: Shireen Pasha, Import Administration, International Trade Administration, U.S. Department of Commerce, 14th Street and Constitution Avenue, N.W., Washington, D.C. 20230; telephone: (202) 482-0193.

The Applicable Statute and Regulations

Unless otherwise indicated, all citations to the statute are references to the provisions effective January 1, 1995, the effective date of the amendments made to the Tariff Act of 1930, as amended (“the Act”), by the Uruguay Round Agreements Act. In addition, unless otherwise indicated, all citations to the Department's regulations are to the regulations as codified at 19 C.F.R. Part 351 (2001).

SUPPLEMENTARY INFORMATION:

Background

On December 6, 2001, the Department published in the Federal Register the antidumping duty order on welded large diameter line pipe from Japan. See Notice of Antidumping Duty Order: Welded Large Diameter Line Pipe from Japan (66 FR 63368). On April 17, 2002, BP America, a U.S. importer, requested that the Department revoke in part the antidumping duty order on certain welded large diameter line pipe from Japan. Specifically, BP America requested that the Department revoke the order with respect to imports meeting the following specifications and sizes: in API grades X80 or above, having an outside diameter of 48 inches to and including 52 inches, and with a wall thickness of 0.90 inch or more; and, in API grades X100 or above, having an outside diameter of 48 inches to and including 52 inches, and with a wall thickness of 0.54 inch or more.

The petitioners consented, on a letter filed May 7, 2002, to the revocation of the order only as it applies to all welded LDLP in API grades X80 or above, having an outside diameter of 48 inches to an including 52 inches, and with a wall thickness of 0.90 inch or more. However, on May 21, 2002, the petitioners filed another letter stating that they would like to change their initial response from partial consent to that of full consent in excluding these products from the order, i.e., in API grades X80 or above, having an outside diameter of 48 inches to and including 52 inches, and with a wall thickness of 0.90 inch or more; and, in API grades X100 or above, having an outside diameter of 48 inches to and including 52 inches, and with a wall thickness of 0.54 inch or more. In accordance with Section 351.216(c), due to the lack of petitioners' interest, the Department finds good cause to initiate a changed circumstance review despite the final determination being less than 24 months old. This initiation will accord all interested parties an opportunity to address this proposed exclusion and will enable the Department to solicit comments from the parties to determine whether substantially all of the domestic producers support revocation of the order with respect to the merchandise in question. See Certain Tin Mill Products From Japan: Final Results of Changed Circumstances Review, 66 FR 52109 (October 12, 2001).

Scope of Review

The product covered by this antidumping order is certain welded carbon and alloy line pipe, of circular cross section and with an outside diameter greater than 16 inches, but less than 64 inches, in diameter, whether or not stencilled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this investigation is American Water Works Association (AWWA) specification water and sewage pipe and the following size/grade combinations; of line pipe:

—Having an outside diameter greater than or equal to 18 inches and less than or equal to 22 inches, with a wall thickness measuring 0.750 inch or greater, regardless of grade.

—Having an outside diameter greater than or equal to 24 inches and less than 30 inches, with wall thickness measuring greater than 0.875 inches in grades A, B, and X42, with wall thickness measuring greater than 0.750 inches in grades X52 through X56, and with wall thickness measuring greater than 0.688 inches in grades X60 or greater.

—Having an outside diameter greater than or equal to 30 inches and less than 36 inches, with wall thickness measuring greater than 1.250 inches in grades A, B, and X42, with wall thickness measuring greater than 1.000 inches in grades X52 through X56, and with wall thickness measuring greater than 0.875 inches in grades X60 or greater.

—Having an outside diameter greater than or equal to 36 inches and less than 42 inches, with wall thickness measuring greater than 1.375 inches in grades A, B, and X42, with wall thickness measuring greater than 1.250 inches in grades X52 through X56, and with wall thickness measuring greater than 1.125 inches in grades X60 or greater.

—Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

—Having an outside diameter equal to 48 inches, with a wall thickness measuring 1.0 inch or greater, in grades X-80 or greater.

Initiation of Changed Circumstances Antidumping Duty Administrative Review

Pursuant to section 751(d)(1) of the Act, the Department may revoke an antidumping or countervailing duty order, in whole or in part, based on a review under section 751(b) of the Act (i.e., a changed circumstances review). Section 751(b)(1) of the Act requires a changed circumstances review to be conducted upon receipt of a request which shows changed circumstances sufficient to warrant review of a final affirmative antidumping determination. Section 351.222(g) (2) of the Department's regulations provides that the Department will conduct a changed circumstances review under 19 C.F.R. 351.216 if the Secretary concludes from the available information that changed circumstances sufficient to warrant revocation or termination may exist. The Department may revoke an order (in whole or in part), if the Secretary determines that: (i) producers accounting for substantially all of the production of the domestic like product to which the order (or the part of the order to be revoked) pertains have expressed a lack of interest in the relief provided by the order, in whole or in part, or (ii) if other changed circumstances sufficient to warrant revocation exist. In this context, the Department has interpreted “substantially all” production normally to mean at least 85 percent of domestic production of the like product. See Certain Tin Mill Products From Japan: Final Results of Changed Circumstances Review, 66 FR 52109 (October 12, 2001). According to the Department's knowledge the following are U.S. producers of welded large diameter line pipe: American Cast Iron Pipe Co., American Steel Pipe Division; Berg Steel Pipe Corp.; Stupp Corp.; Bethlehem Steel Corp.; U.S. Steel Group, a Unit of USX Corp.; Camp-Hill Corp.; Lone Star Steel Co.; Napa Pipe Corp.; Pennsylvania Steel Technologies, Inc.; Oregon Steel mills, Inc.; and Saw Pipes USA, Inc.. Based upon the petitioners' statement of no interest and the silence of other domestic producers, the Department determines that there is information sufficient to warrant initiation of this changed circumstances review.

We will publish in the Federal Register a notice of preliminary results of antidumping duty changed circumstances review, in accordance with 19 CFR 351.221(b)(4) and 351.221(c)(3)(i), which will set forth the factual and legal conclusions upon which our preliminary results are based and a description of any action proposed based on those results. As per section 351.221 (b) (4), interested parties will have an opportunity to comment. The Department will issue its final results of review no later than 270 days after publication of this notice of initiation. All written comments must be submitted to the Department and served on all interested parties on the Department's service list in accordance with 19 CFR 351.303.

During the course of this changed circumstances review, the current requirement for a cash deposit of estimated antidumping duties on all subject merchandise, including the merchandise subject to this changed circumstances review, will continue unless and until it is modified pursuant to the final results of this changed circumstances review or other administrative review.

This notice is in accordance with sections 751(b)(1) and 777(i)(1) of the Act and 19 CFR 351.216, 351.221(b), and 351.222(g)(3)(i).

Dated: June 3, 2002
Faryar Shirzad,
Assistant Secretary for Import Administration.

[FR Doc. 02-14513 Filed 6-7-02; 8:45 am]

BILLING CODE 3510-DS-S